DEPARTMENT OF THE TREASURY

Office of Foreign Assets Control

Sanctions Actions Pursuant to Executive Order 13582

AGENCY: Office of Foreign Assets Control, Treasury.

ACTION: Notice.

SUMMARY: The Treasury Department's Office of Foreign Assets Control (OFAC) is publishing the names of eleven persons whose property and interests in property are blocked pursuant to Executive Order (E.O.) 13582, six persons identified as the Government of Syria pursuant to E.O. 13582, and ten vessels in which certain of these entities have an interest.

DATES: OFAC's actions described in this notice were effective on August 3, 2015, as further specified below.

FOR FURTHER INFORMATION CONTACT: Associate Director for Global Targeting, tel.: 202/622-2420, Associate Director for Sanctions Policy & Implementation, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.:202/622-0077.

Notice of OFAC Actions

On August 3, 2015, OFAC blocked the property and interests in property of the following eleven persons pursuant to E.O. 13582, “Blocking Property of the Government of Syria and Prohibiting Certain Transactions with Respect to Syria”:

Individuals

1. AYDIN, Mustafa, Turkey; DOB 26 May 1988; Passport U04663595 (Turkey) (individual) [SYRIA] (Linked To: MILENYUM ENERGY S.A.; Linked To: BLUE ENERGY TRADE LTD. CO.; Linked To: ABDULKARIM GROUP).

2. DUZGOREN, Serkan, Turkey; DOB 28 Jan 1979 (individual) [SYRIA] (Linked To: MILENYUM ENERGY S.A.).

3. DUZGOREN, Erkan, Turkey; DOB 17 Jun 1980 (individual) [SYRIA] (Linked To: MILENYUM ENERGY S.A.).

4. KENAR, Ufuk, Turkey; DOB 24 Apr 1980 (individual) [SYRIA] (Linked To: MILENYUM ENERGY S.A.).

Entities

1. AQUA SHIPPING LTD. (a.k.a. AQUA SHIPPING LTD.-MAI), c/o Milenyum Denizcilik Gemi Hizmetleri Acentelik ve Ozel Ogretim Hizmetleri Ltd. Sti, Nazli Sokak 9, Halilrifatpasa Mah, Sisli, Istanbul 34384, Turkey; Trust Company Complex, Ajeltake Road, Ajeltake Island, Majuro, Marshall Islands; Identification Number IMO 5849194 [SYRIA] (Linked To: MILENYUM ENERGY S.A.).

2. BLUE ENERGY TRADE LTD. CO., P.O. Box 556, Charlestown, Saint Kitts and Nevis [SYRIA] (Linked To: MILENYUM ENERGY S.A.).

3. EBLA TRADE SERVICES S.A.L./OFF-SHORE, Beirut, Lebanon; Nakhle Center, Property Number: 295/24, Baabda, Furn, Chebbak, Lebanon [SYRIA] (Linked To: MILENYUM ENERGY S.A.; Linked To: BLUE ENERGY TRADE LTD. CO.).

4. GREEN SHIPPING LTD., c/o Milenyum Denizcilik Gemi Hizmetleri Acentelik ve Ozel Ogretim Hizmetleri Ltd. Sti, Nazli Sokak 9, Halilrifatpasa Mah, Sisli, Istanbul 34384, Turkey; Trust Company Complex, Ajeltake Road, Ajeltake Island, Majuro, Marshall Islands; Identification Number IMO 5848165 [SYRIA] (Linked To: MILENYUM ENERGY S.A.).

5. MILENYUM ENERGY S.A. (a.k.a. MILENYUM DENIZCILIK GEMI; a.k.a. MILENYUM DENIZCILIK GEMI HIZMETLERI ACENTELIK VE OZEL OGRETIM HIZMETLERI LIMITED SIRKETI; a.k.a. MILENYUM SHIPPING), c/o Milenyum Denizcilik Gemi H., Hizmetleri Ltd. Sti, Nazli Sokak 9, Halilrifatpasa Mah, Sisli, Istanbul 34384, Turkey; Ataturk Mahallesi Gulay Sokak, No. 12/3, Atasehir, Istanbul, Turkey; No. 18 D. 1 Kemankes Mah. Necatibey Cad., Akce Sok., Karakoy, Istanbul, Turkey; Sierra Leone; Avenida Norte Enrique Geenzeier El Cangrejo, Panama 0834-1082, Panama; Web site http://www.milenyumshipping.com; Company Number 792313 (Panama) [SYRIA] (Linked To: ABDULKARIM, Wael; Linked To: ABDULKARIM GROUP).

6. THE EAGLES L.L.C. (a.k.a. THE EAGLES INTERNATIONAL LLC), Plot No. 41, Airport Free Trade Zone, Damascus, Syria [SYRIA] (Linked To: ABDULKARIM, Wael; Linked To: ABDULKARIM GROUP).

7. MORGAN ADDITIVES MANUFACTURING CO. (a.k.a. MORGAN MIDDLE EAST LLC), Office No. 2206, 22nd Floor, Jafza View 19, Sheikh Zayed Road Besides Jafza View 18, Jebel Ali Free Zone Authority, Dubai, United Arab Emirates; Suite 13, First Floor, Oliaji Trade Centre, Francis Rachel Street, Victoria, Mahe, Seychelles; Web site www.morganme.com; alt. Web site morgan.ae [SYRIA] (Linked To: ABDULKARIM, Wael).

In addition, on August 3, 2015, OFAC identified the following six persons as falling within the definition of the Government of Syria as set forth in section 8(d) of E.O. 13582 and section 542.305 of the Syrian Sanctions Regulations, 31 CFR part 542:

Entities

1. GENERAL DIRECTORATE OF SYRIAN PORTS (a.k.a. “GENERAL DIRECTORATE OF PORTS”), Algazaer Street, Lattakia, Syria [SYRIA].

2. LATTAKIA PORT GENERAL COMPANY (a.k.a. LATAKIA PORT GENERAL COMPANY), BP 220, Latakia, Syria; Postal Box 220, Lattakia, Syria; Baghdad Street, Lattakia, Syria [SYRIA].

3. SYRIAN CHAMBER OF SHIPPING (a.k.a. “SCOS”), Al Jazaeer Street, Farid Hanna Bldg, 8th Fl., P.O. Box 1731, Lattakia, Syria; Al Mina Street, Tartous, Syria [SYRIA].

4. SYRIAN GENERAL AUTHORITY FOR MARITIME TRANSPORT (a.k.a. SYRIAMAR; a.k.a. SYRIAN GENERAL ESTABLISHMENT FOR MARINE TRANSPORT; a.k.a. SYRIAN GENERAL ORGANIZATION FOR MARITIME TRANSPORT), BP 28, Bur Sa'id Street, Latakia, Syria; BP 225, Yarmouk Street, Latakia, Syria; BP 915, al-Mina Street, Tartous, Syria; BP 730, Argentine Street, Damascus, Syria; Port Road, Lattakia, Syria [SYRIA].

5. SYRIAN SHIPPING AGENCIES COMPANY (a.k.a. “SHIPCO”; a.k.a. “SHIPPING AGENCIES CO.”), Port Said Street, P.O. Box 28, Lattakia, Syria; Port Street, P.O. Box 3, Tartous, Syria; Joul Jammal Street, P.O. Box 28, Banias, Syria; Brazil Street, P.O. Box 12477, Damascus, Syria [SYRIA].

6. TARTOUS PORT GENERAL COMPANY, Al Mina Street, Tartous, Syria; Postal Box 86, Tartous, Syria [SYRIA].

In addition, on August 3, 2015, OFAC identified the following seven vessels as property in which Milenyum Energy S.A., an entity whose property and interests in property are blocked pursuant to E.O. 13582, has an interest:

Vessels

1. AQUA Sierra Leone flag; Vessel Registration Identification IMO 7529641 (vessel) [SYRIA] (Linked To: MILENYUM ENERGY S.A.; Linked To: AQUA SHIPPING LTD.).

2. BLUE DREAM Saint Kitts and Nevis flag; Vessel Registration Identification IMO 8002664 (vessel) [SYRIA] (Linked To: MILENYUM ENERGY S.A.).

3. BLUE WAY Panama flag; Vessel Registration Identification IMO 8800298 (vessel) [SYRIA] (Linked To: MILENYUM ENERGY S.A.).

4. BLUEGAS Sierra Leone flag; Vessel Registration Identification IMO 7909839 (vessel) [SYRIA] (Linked To: MILENYUM ENERGY S.A.).

5. GREEN LIGHT Panama flag; Vessel Registration Identification IMO 8810700 (vessel) [SYRIA] (Linked To: MILENYUM ENERGY S.A.; Linked To: GREEN SHIPPING LTD.).

6. MARIANA Sierra Leone flag; Vessel Registration Identification IMO 8016835 (vessel) [SYRIA] (Linked To: MILENYUM ENERGY S.A.).

7. TALA Panama flag; Vessel Registration Identification IMO 8012114 (vessel) [SYRIA] (Linked To: MILENYUM ENERGY S.A.).

Finally, on August 3, 2015, OFAC identified the following three vessels as property in which the Syrian General Authority for Maritime Transport, an entity whose property and interests in property are blocked pursuant to E.O. 13582, has an interest:

Vessels

1. FINIKIA; Vessel Registration Identification IMO 9385233 (vessel) [SYRIA] (Linked To: SYRIAN GENERAL AUTHORITY FOR MARITIME TRANSPORT).

2. LAODICEA; Vessel Registration Identification IMO 9274343 (vessel) [SYRIA] (Linked To: SYRIAN GENERAL AUTHORITY FOR MARITIME TRANSPORT).

3. SOURIA; Vessel Registration Identification IMO 9274331 (vessel) [SYRIA] (Linked To: SYRIAN GENERAL AUTHORITY FOR MARITIME TRANSPORT).

Dated: August 3, 2015.
John E. Smith,
Acting Director, Office of Foreign Assets Control.

[FR Doc. 2015-19596 Filed 8-7-15; 8:45 am]

BILLING CODE 4811-A-P